DEPARTMENT OF THE INTERIOR

Bureau of Reclamation

Folsom Dam Road, Folsom, CA

AGENCY: Bureau of Reclamation, Interior.

ACTION: Notice of Intent to prepare an Environmental Impact Statement (EIS).

SUMMARY: The Bureau of Reclamation (Reclamation) is planning to prepare an EIS for a proposed permanent restriction to public access to Folsom Dam. The Folsom Dam Road, which was closed indefinitely for security reasons on February 28, 2003, was closed to preserve and protect the core mission of the facility and for the ultimate safety of the public. The closure followed a series of security reviews, including a final review conducted by the Defense Threat Reduction Agency (DTRA) and subsequent full-scale analysis and evaluation of DTRA's recommendations by Reclamation and the Department of the Interior. The evaluation determined that uncontrolled access to Folsom Dam presents a clear security risk to the facility.

DATES: Reclamation will seek public input on alternatives, concerns, and issues to be addressed in the EIS through scoping meetings through scoping meetings in May. The schedule and locations of the scoping meetings are as follows:

• Wednesday, May 26, 2004, 4:30-7 p.m, Sacramento, CA

• Thursday, May 27, 2004, 4:30-7 p.m., Folsom, CA

Written comments on the scope of alternatives and impacts to be considered should be sent to Mr. Robert Schroeder at the below address by June 10, 2004.

ADDRESSES: The meeting locations are:

• Sacramento at the Library Galleria—West Meeting Room, 828 I Street

• Folsom at the Folsom Community Center—West Room, 52 Natoma Street

FOR FURTHER INFORMATION CONTACT: Mr. Robert Schroeder, Reclamation, 7794 Folsom Dam Road, Folsom, California 95630; telephone number (916) 989-7274.

SUPPLEMENTARY INFORMATION: Controlled access by authorized Government personnel is necessary to minimize the security risks and maximize the safety not only of Folsom Dam, but that of the entire Sacramento metropolitan population downstream of the Dam. Reclamation determined that an EIS is needed to examine the effect of the road closure on the natural and human environment.

Alternatives to the proposed action of a permanent restriction to public access include ending the indefinite road closure at some as yet to be determined time, reopening the road on a partial basis, and a no action alternative which would reopen the road to the level of access in place prior to the February 2003 indefinite closure. That level of access included restrictions such as closing the road overnight and allowing no trucks at any time.

If special assistance is required at the scoping meetings, contact Mr. Robert Schroeder, Reclamation, at (916) 989-7274. Please notify Mr. Schroeder as far in advance of the meetings as possible to enable Reclamation to secure the needed services. If a request cannot be honored, the requestor will be notified. A telephone device for the hearing impaired (TDD) is available at (916) 989-7285.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: March 10, 2004.
Frank Michny,
Regional Environmental Officer, Mid-Pacific Region.

[FR Doc. 04-7556 Filed 4-2-04; 8:45 am]

BILLING CODE 4310-MN-P